DEPARTMENT OF COMMERCE

National Oceanic and Atmospheric Administration

50 CFR Part 679

[Docket No. 010313063-1297-02; I.D. 121200A]

RIN 0648-A020

Fisheries of the Exclusive Economic Zone Off Alaska; Revisions to Recordkeeping and Reporting Requirements

Correction

In rule document 02-1875 beginning on page 4100 in the issue of Monday, January 28, 2002, make the following correction:

On page 4140, in the table, the second page of table 3 was inadvertently left out. The missing page of table 3 is corrected to read as set forth below.

[FR Doc. C2-1875 Filed 7-10-02; 8:45 am]

BILLING CODE 1505-01-D

DEPARTMENT OF TRANSPORTATION

Federal Aviation Administration

[Docket No. FAA-2001-11032]

Funding for Mandated Security Modifications to Flightcrew Compartment Doors

Correction

In notice document 02-16499, beginning on page 44496 in the issue of Tuesday, July 2, 2002, make the following correction:

On page 44496, in the third column, under the “ADDRESSES” section, in the third and fourth lines, the web address is corrected to read as set forth below, “http://www2.airweb.faa.gov/airplane_security/announce.htm”.

[FR Doc. C2-16499 Filed 7-10-02; 8:45 am]

BILLING CODE 1505-01-D